DEPARTMENT OF HOMELAND SECURITY

Transportation Security Administration

49 CFR Parts 1520 and 1580

[Docket No. TSA-2006-26514]

RIN 1658-AA51

Rail Transportation Security Notice of Proposed Rulemaking

AGENCY: Transportation Security Administration, DHS.

ACTION: Notice of public meeting; request for comments.

SUMMARY: This document provides the time and location of the public meeting which will be held by the Transportation Security Administration (TSA) regarding the Notice of Proposed Rulemaking (NPRM) entitled “Rail Transportation Security,” which was published in the Federal Register on December 21, 2006.

DATES: The meeting will take place on February 2, 2007, from 10 am to 4 pm. Persons wishing to submit written comments should submit them by February 20, 2007.

ADDRESSES: The meeting will be held at the Crystal City Marriott at Reagan National Airport, 1999 Jefferson Davis Highway, Arlington, Virginia 22202 USA, telephone: 703-413-5500.

Anyone in need of assistance or a reasonable accommodation for the meeting should contact the person listed under the heading FOR FURTHER INFORMATION CONTACT. In addition, sign and oral interpretation, as well as a listening device, can be made available at the meeting if requested 10 calendar days before the meeting. Arrangements may be made by contacting the person listed under the heading FOR FURTHER INFORMATION CONTACT.

TSA invites interested persons to participate in this rulemaking by submitting written comments, data, or views relating to any aspect of rail transportation security. We also invite comments relating to the economic, environmental, energy, or federalism impacts that might result from this rulemaking action. You may submit comments, identified by the TSA NPRM docket number (TSA-2006-26514) to this rulemaking, using any one of the following methods.

(1) Searching the Department of Transportation's electronic Docket Management System (DMS) Web page (http://dms.dot.gov/search);

(2) Accessing the Government Printing Office's Web page at http://www.gpoaccess.gov/fr/index.html; or

(3) Visiting TSA's Security Regulations Web page at http://www.tsa.gov and accessing the link for “Research Center” at the top of the page.

FOR FURTHER INFORMATION CONTACT: Lisa L. Peña, Freight Rail Security, Transportation Sector Network Management, TSA-28, Transportation Security Administration, 601 South 12th Street, Arlington, VA 22202-4220; telephone (571) 227-4414; facsimile (571) 227-2930; e-mail Lisa.Pena@dhs.gov.

SUPPLEMENTARY INFORMATION: The agenda for the meeting will include a discussion of TSA's Rail Transportation Security NPRM, 71 FR 76852, Dec. 21, 2006. In this NPRM, TSA proposes security requirements for freight railroad carriers; intercity, commuter, and short-haul passenger train service providers; rail transit systems; and rail operations at certain, fixed-site facilities that ship or receive specified hazardous materials by rail. This rule proposes to codify the scope of TSA's existing inspection program and to require regulated parties to allow TSA and Department of Homeland Security (DHS) officials to enter, inspect, and test property, facilities, and records relevant to rail security. This rule also proposes that regulated parties designate rail security coordinators and report significant security concerns to DHS.

TSA further proposes that freight railroad carriers and certain facilities handling certain categories and quantities of hazardous materials ensure a positive and secure chain of custody for those shipments that may transit a high threat urban area. We also propose that these carriers and facilities be equipped to report car location and shipping information to TSA upon request. TSA also proposes to clarify and extend the sensitive security information (SSI) protections to cover certain information associated with rail transportation.

The meeting is open to the public, but attendance is limited to the space available. Members of the public must make advance arrangements to present oral statements at the meeting by contacting the person listed under the heading FOR FURTHER INFORMATION CONTACT. Written comments may be submitted to TSA by providing them to the docket. Information on the docket is listed under the heading ADDRESSES.

TSA intends to analyze the public comments and issue a final rule. The information presented at the public meeting should greatly assist TSA in developing proposed standards for rail transportation security. Therefore, TSA looks forward to meeting with the key stakeholders on this topic and exchanging information.

Issued in Arlington, Virginia, on January 11, 2007.
John Sammon,
Assistant Administrator, Transportation Sector Network Management.

[FR Doc. E7-671 Filed 1-18-07; 8:45 am]

BILLING CODE 9910-05-P